DEPARTMENT OF COMMERCE

National Oceanic and Atmospheric Administration

50 CFR Part 622

[Docket No. 180212157-8897-01]

RIN 0648-BH72

Fisheries of the Caribbean, Gulf of Mexico, and South Atlantic; Electronic Reporting for Federally Permitted Charter Vessels and Headboats in Gulf of Mexico Fisheries

Correction

In proposed rule document 2018-23348, appearing on pages 54069 through 54079, in the issue of Friday, October 26, 2018, make the following corrections:

§ 622.26 Recordkeeping and reporting [Corrected].

* * * * *

1. On page 54076, in the third column, in the thirty-ninth line, the entry “(b)(5)(iii)(D)” should read “(b)(5)(ii)(D)”.

2. On page 54076, in the third column, in the sixty-fifth line, the entry “(b)(5)(iii)(A)” should read “(b)(5)(ii)(A)”.

3. On page 54077, in the first column, in the second line, the entry “(b)(5)(iii)(C)” should read “(b)(5)(ii)(C)”.

4. On page 54077, in the first column, in the eleventh line, the entry “(b)(5)(iii)(B)” should read “(b)(5)(ii)(B)”.

* * * * *

[FR Doc. C1-2018-23348 Filed 11-7-18; 8:45 am]

BILLING CODE 1301-00-D